DEPARTMENT OF AGRICULTURE

Forest Service

Land Between the Lakes Advisory Board

AGENCY: Forest Service, Agriculture (USDA).

ACTION: Notice of meeting.

SUMMARY: The Land Between the Lakes Advisory Board will hold a public meeting according to the details shown below. The board is authorized under the Charter for the Land Between the Lakes Advisory Board and operates in compliance with the Federal Advisory Committee Act (FACA). The purpose of the board is to advise the Secretary of Agriculture on means of promoting public participation for the land and resource management plan for the Recreation Area, environmental education, an annual work plan for recreation and environmental education areas in the Recreation Area. This includes the heritage program (with the non-appropriated amounts in the Land Between the Lakes Management Fund), an annual forest management and harvest plan for the Recreation Area and the Land Between the Lakes Management Fund.

DATES: An in-person and virtual meeting will be held on April 9, 2025, 9:00 a.m.-4:00 p.m., Central Time.

Written and Oral Comments: Anyone wishing to provide in-person oral comments must pre-register by 11:59 p.m. (Central) April 4, 2025. Written public comments will be accepted by 11:59 p.m. (Central) on April 4, 2025. Comments submitted after this date will be provided to the Agency, but the Board may not have adequate time to consider those comments prior to the meeting.

All board meetings are subject to cancellation. For status of the meeting prior to attendance, please contact the person listed under For Further Information Contact.

ADDRESSES: This meeting will be held in-person and virtually, at the Supervisor's Office, located at 100 Van Morgan Drive, Golden Pond, Kentucky 42211. The public may also join virtually via webcast meeting at: https://landbetweenthelakes.us/upcomingmeetinginfo. Board information and meeting details can be found at the following website: https://landbetweenthelakes.us/advisoryboard or by contacting the person listed under FOR FURTHER INFORMATION CONTACT.

Written Comments: Written comments must be sent by email to SM.FS.LBL_AdBoard@usda.gov or via mail (i.e., postmarked) to Land Between the Lakes National Recreation Area, Christine Bombard, 100 Van Morgan Drive, Golden Pond, Kentucky 42211. The Forest Service strongly prefers comments be submitted electronically.

Oral Comments: Persons or organizations wishing to make oral comments must pre-register by 11:59 p.m. CST, April 7, 2025, and speakers can only register for one speaking slot. Oral comments must be sent by email to SM.FS.LBL_AdBoard@usda.gov or via mail (i.e., postmarked) to Land Between the Lakes National Recreation Area, Attention: Christine Bombard, 100 Van Morgan Drive, Golden Pond, Kentucky 42211.

FOR FURTHER INFORMATION CONTACT: James McCoy, Designated Federal Officer (DFO), by phone at 870-214-0934 or email at SM.FS.LBL_AdBoard@usda.gov or Christine Bombard, Board Coordinator at 270-540-1889 or email at SM.FS.LBL_AdBoard@usda.gov.

SUPPLEMENTARY INFORMATION: The purpose of the meeting is to:

1. Discuss old business/updates

2. Discuss environmental education

3. Discuss natural resource management

4. Approve meeting minutes; and

5. Schedule the next meeting.

The agenda will include time for individuals to make oral statements of three minutes or less. Individuals wishing to make an oral statement should make a request in writing at least 3 days prior to the meeting date to be scheduled on the agenda. Written comments may be submitted to the Forest Service up to 7 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section, or contact USDA's TARGET Center at (202) 720-2600 (voice and TTY) or USDA through the Federal Relay Service at (800) 877-8339. Additionally, program information may be made available in languages other than English.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

This meeting notice is being published late due to additional administrative matters of the USDA Department.

Dated: March 25, 2025
Cikena Reid,
USDA Committee Management Officer.

[FR Doc. 2025-05379 Filed 3-27-25; 8:45 am]

BILLING CODE 3411-15-P